DEPARTMENT OF COMMERCE

National Oceanic and Atmospheric Administration

[RTID 0648-XD426]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet November 1-8, 2023 in Garden Grove, California and via webinar. The Council meeting will be live streamed with the opportunity to provide public comment remotely.

DATES: The Pacific Council meeting will begin on Friday, November 3, 2023, at 9 a.m. Pacific Daylight Time (PDT), reconvening at 8 a.m. on Saturday, November 4 through Wednesday, November 8, 2023. All meetings are open to the public, except for a Closed Session held from 8 a.m. to 9 a.m., Friday, November 3, to address litigation and personnel matters. The Pacific Council will meet as late as necessary each day to complete its scheduled business.

ADDRESSES:

Meeting address: Meetings of the Pacific Council and its advisory entities will be held at the Hyatt Regency Orange County, 11999 Harbor Blvd., Garden Grove, CA; telephone: (714) 750-1234. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The November 3-8, 2023 meeting of the Pacific Council will be streamed live on the internet. The broadcasts begin initially at 9 a.m. PDT Friday, November 3, 2023, and 8 a.m. PDT Saturday, November 4 through Wednesday, November 8, 2023. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under sections 304 or 305 of the Magnuson-Stevens Fishery Conservation and Management Act. Additional detail on agenda items, Council action, and advisory entity meeting times, are described in Agenda Item A.3, Proposed Council Meeting Agenda, and will be in the advance November 2023 briefing materials and posted on the Pacific Council website at www.pcouncil.org no later than Friday, October 13, 2023.

A. Call to Order

1. Opening Remarks

2. Roll Call

3. Agenda

4. Executive Director's Report

B. Open Comment Period

1. Comments on Non-Agenda Items

C. Administrative Matters

1. Council Coordination Committee Report

2. National Marine Fisheries Service 2023 Accomplishments and 2024 Priorities

3. Marine Planning

4. Fiscal Matters

5. Legislative Matters

6. Approval of Council Meeting Record

7. Membership Appointments and Council Operating Procedures

8. Future Council Meeting Agenda and Workload Planning

D. Salmon Management

1. National Marine Fisheries Service Report Including Stock Status Determinations

2. Fishery Management Plan (FMP) Amendment 24: Southern Resident Killer Whale Threshold Clarifications—Final

3. Final Methodology Review

4. Final 2024 Preseason Management Schedule and 2024 Management Framework for California Chinook Fisheries

5. Klamath River Fall Chinook Workgroup Progress Report

E. Groundfish Management

1. National Marine Fisheries Service Report

2. Adopt Quillback Rebuilding Analyses, Catch-Only Projections, and Revised Projections

3. Final Inseason Adjustments for 2023 and 2024, Including 2024 Whiting Set-Asides—Part I

4. Sablefish Gear Switching—Preliminary Preferred Alternative

5. Harvest Specifications and Management Measures for 2025-2026—Part I

6. Preliminary Exempted Fishing Permits for 2025-2026

7. Harvest Specifications and Management Measures for 2025-2026—Part II

8. Phase 2 Stock Definitions—Planning

9. Final Inseason Adjustments for 2023-2024—Part II, if Necessary

F. Highly Migratory Species Management

1. National Marine Fisheries Service Report

2. Highly Migratory Species Essential Fish Habitat Amendment—Final

3. Highly Migratory Species Roadmap Workshop

G. Pacific Halibut Management

1. 2024 Catch Sharing Plan and Regulations—Final

Advisory Body Agendas

Advisory body agendas will include discussions of relevant issues that are on the Pacific Council agenda for this meeting and may also include issues that may be relevant to future Council meetings. Proposed advisory body agendas for this meeting will be available on the Pacific Council website, www.pcouncil.org, no later than Friday, October 13, 2023 by the end of the business day.

Schedule of Ancillary Meetings
Day 1—Wednesday, November 1, 2023:
Marine Planning Committee | 8 a.m.
Groundfish Subcommittee Scientific and Statistical Committee | 3 p.m.
Day 2—Thursday, November 2, 2023:
Groundfish Advisory Subpanel | 8 a.m.
Groundfish Management Team | 8 a.m.
Scientific and Statistical Committee | 8 a.m.
Legislative Committee | 10 a.m.
Budget Committee | 1 p.m.
Enforcement Consultants | 2 p.m.
Day 3—Friday, November 3, 2023:
California State Delegation | 7 a.m.
Oregon State Delegation | 7 a.m.
Washington State Delegation | 7 a.m.
Groundfish Advisory Subpanel | 8 a.m.
Groundfish Management Team | 8 a.m.
Highly Migratory Species Advisory Subpanel | 1 p.m.
Highly Migratory Species Management Team | 1 p.m.
Scientific and Statistical Committee | 8 a.m.
Enforcement Consultants | As Necessary.
Day 4—Saturday, November 4, 2023:
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | As Necessary.
Day 5—Sunday, November 5, 2023:
California State Delegation | 7 a.m.
Oregon State Delegation | 7 a.m.
Washington State Delegation | 7 a.m.
Groundfish Advisory Subpanel | 8 a.m.
Groundfish Management Team | 8 a.m.
Highly Migratory Species Management Team | 8 a.m.
Enforcement Consultants | As Necessary.
Day 6—Monday, November 6, 2023:
California State Delegation | 7 a.m.
Oregon State Delegation | 7 a.m.
Washington State Delegation | 7 a.m.
Groundfish Advisory Subpanel | 8 a.m.
Groundfish Management Team | 8 a.m.
Enforcement Consultants | As Necessary.
Day 7—Tuesday, November 7, 2023
California State Delegation | 7 a.m.
Oregon State Delegation | 7 a.m.
Washington State Delegation | 7 a.m.
Enforcement Consultants | As Necessary.
Day 8—Wednesday, November 8, 2023
California State Delegation | 7 a.m.
Oregon State Delegation | 7 a.m.
Washington State Delegation | 7 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: September 26, 2023.
Rey Israel Marquez,
Acting Deputy Director, Office of Sustainable Fisheries, National Marine Fisheries Service.

[FR Doc. 2023-21470 Filed 9-28-23; 8:45 am]

BILLING CODE 3510-22-P